DEPARTMENT OF COMMERCE

International Trade Administration

[A-475-703]

Granular Polytetrafluorethylene Resin From Italy: Final Results of Sunset Review and Revocation of Antidumping Duty Order

AGENCY: Enforcement and Compliance, International Trade Administration, Department of Commerce.

SUMMARY: On June 1, 2016, the Department of Commerce (the Department) initiated a sunset review of the antidumping duty order on granular polytetrafluorethylene (PTFE) resin from Italy. Because the domestic interested parties did not participate in this sunset review, the Department is revoking this antidumping duty order.

DATES: Effective [July 18, 2016].

FOR FURTHER INFORMATION CONTACT: Toby Vandall, AD/CVD Operations, Enforcement and Compliance, International Trade Administration, U.S. Department of Commerce, 14th Street and Constitution Avenue NW., Washington, DC 20230; telephone: (202) 482-1664.

SUPPLEMENTARY INFORMATION:

Background

On August 30, 1988, the Department issued the antidumping duty order on granular PTFE resin from Italy.¹ On July 18, 2011, at the conclusion of the most recently completed sunset review, the Department published a notice of continuation of the antidumping duty order on PTFE resin from Italy.² On June 1, 2016, the Department initiated the current sunset review of this order.³ We did not receive a notice of intent to participate from domestic interested parties for this sunset review by the applicable deadline. As a result, in accordance with 19 CFR 351.218(d)(1)(iii)(A), the Department determined that no domestic interested party intends to participate in this sunset review, and on June 20, 2016, we notified the International Trade Commission, in writing, that we intended to issue a final determination revoking this antidumping duty order.⁴

¹ See Antidumping Duty Order: Granular Polytetrafluoroethylene Resin from Italy, 53 FR 33163 (August 30, 1988).

² See Granular Polytetrafluoroethylene Resin From Italy: Continuation of Antidumping Duty Order, 76 FR 42114 (July 18, 2011) (Continuation).

³ See Initiation of Five-Year (“Sunset”) Review, 81 FR 34974 (June 1, 2016).

⁴ See 19 CFR 351.218(d)(l)(iii)(B)(2). See also letter from the Department, “Sunset Reviews Initiated on June 1, 2016” (June 20, 2016).

Scope of the Order

The product covered by the order is PTFE resin, filled or unfilled. The order also covers PTFE wet raw polymer exported from Italy to the United States. See Granular Polytetrafluoroethylene Resin From Italy; Final Affirmative Determination of Circumvention of Antidumping Duty Order, 58 FR 26100 (April 30, 1993). The order excludes PTFE dispersions in water and fine powders. During the period covered by this review, such merchandise was classified under item number 3904.61.00 of the Harmonized Tariff Schedule of the United States (HTSUS). We are providing this HTSUS number for convenience and customs purposes only. The written description of the scope remains dispositive.

Revocation

Pursuant to section 751(c)(3)(A) of the Tariff Act of 1930, as amended (the Act) and 19 CFR 351.218(d)(1)(iii)(B)(3), if no domestic interested party files a notice of intent to participate, the Department shall, within 90 days after the initiation of the review, issue a final determination revoking the order. Because no domestic interested party filed a notice of intent to participate, the Department finds that no domestic interested party is participating in this sunset review. Therefore, we are revoking the antidumping duty order on PTFE from Italy.

Effective Date of Revocation

Pursuant to 19 CFR 351.222(i)(2)(i), the effective date of revocation is July 18, 2016, the fifth anniversary of the effective date of publication in the Federal Register of the previous continuation of this order.⁵ Pursuant to section 751(c)(3)(A) of the Act and 19 CFR 351.222(i)(2)(i), the Department intends to issue instructions to U.S. Customs and Border Protection, 15 days after publication of this notice, to terminate the suspension of liquidation of the merchandise subject to this order entered, or withdrawn from warehouse, for consumption on or after July 18, 2016. Entries of subject merchandise prior to the effective date of revocation will continue to be subject to suspension of liquidation and antidumping duty cash deposit requirements.

⁵ See Continuation.

The final results of this five-year (sunset) review and notice is published in accordance with sections 751(c) and 777(i)(l) of the Act.

Dated: August 5, 2016.
Ronald K. Lorentzen
Acting Assistant Secretary for Enforcement and Compliance.

[FR Doc. 2016-19155 Filed 8-10-16; 8:45 am]

BILLING CODE 3510-DS-P